DEPARTMENT OF DEFENSE

Office of the Secretary

[Docket ID: DoD-2021-OS-0100]

Federal Register Notice of Request for Written Comments in Support of the Department of Defense's One-Year Response to Executive Order 14017, “America's Supply Chains”; Correction

AGENCY: Office of the Deputy Assistant Secretary of Defense for Industrial Policy (IndPol), Department of Defense (DoD).

ACTION: Notice of request for public comments; correction.

SUMMARY: The Department of Defense is correcting a notice that appeared in the Federal Register on September 28, 2021. Subsequent to publication of the notice, the DoD discovered that questions in the Written Comments section of the SUPPLEMENTARY INFORMATION section were not numbered correctly. DoD is issuing this correction to provide the correct numbering.

DATES: This correction is effective on October 6, 2021.

FOR FURTHER INFORMATION CONTACT: Patricia Toppings, 571-372-0485.

SUPPLEMENTARY INFORMATION: In FR Doc. 2021-21046 appearing at 86 FR 53642-53644 in the Federal Register of Tuesday, September 28 2021, the following corrections are made:

1. On page 53643, in the SUPPLEMENTARY INFORMATION section, under the section titled Written Comments, the question “How does the federal government effectively mitigate supply chain risks?” is renumbered from Question 3 to Question 4.

2. On page 53643, in the SUPPLEMENTARY INFORMATION section, under the section titled Written Comments, the question “What can the government do differently to better address supply chain risks and vulnerabilities in our major weapon systems/platforms (e.g., PGMs) and critical components (e.g., microelectronics)?” is renumbered from Question 4 to Question 5.

3. On page 53643, in the SUPPLEMENTARY INFORMATION section, under the section titled Written Comments, the question “What can the government do differently to successfully implement industrial base cybersecurity processes or protocols, attract skilled labor, implement standards, and incentivize the adoption of manufacturing technology?” is renumbered from Question 5 to Question 6.

Dated: September 30, 2021.
Aaron T. Siegel,
Alternate OSD Federal Register Liaison Officer, Department of Defense.

[FR Doc. 2021-21847 Filed 10-5-21; 8:45 am]

BILLING CODE 5001-06-P